DEPARTMENT OF EDUCATION

Notice of Submission for OMB Review

AGENCY: Department of Education.

ACTION: Comment request.

SUMMARY: The Director, Information Collection Clearance Division, Privacy, Information and Records Management Services, Office of Management, invites comments on the submission for OMB review as required by the Paperwork Reduction Act of 1995 (Pub. L. 104-13).

DATES: Interested persons are invited to submit comments on or before August 22, 2011.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov. Please note that written comments received in response to this notice will be considered public records.

SUPPLEMENTARY INFORMATION: Section 3506 of the Paperwork Reduction Act of 1995 (44 U.S.C. chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: July 18, 2011.
Darrin A. King,
Director, Information Collection Clearance Division, Privacy, Information and Records Management Services, Office of Management.

Institute for Education Sciences

Type of Review: Revision.

Title of Collection: Fast Response Survey System (FRSS) 104: Dual Credit and Exam-Based Courses in Public High Schools: 2010-11 & Post Education Quick Information System (PEQIS) 18: Dual Enrollment of High School Students at Postsecondary Institutions: 2010-11.

OMB Control Number: 1850-0733.

Agency Form Number(s): N/A.

Frequency of Responses: Once.

Affected Public: Individuals and households; Not-for-profit institutions; State, Local, or Tribal Government.

Estimated Number of Annual Responses: 9,655.

Total Estimated Annual Burden Hours: 2,157.

Abstract: The Fast Response Survey System (FRSS) and the Postsecondary Education Quick Information System (PEQIS) collect issue-oriented data quickly and with minimum response burden outside of National Center of Education Statistics' (NCES') large recurring surveys. Both systems were designed to collect and report data on key education issues at the elementary and secondary levels, and to meet the data needs of Department of Education analysts, planners, and decision-makers when information cannot be collected quickly through NCES' large recurring surveys. The purpose of the forthcoming two complementary FRSS and PEQIS surveys is to collect data about dual credit and dual enrollment programs offered to high school students. The FRSS 104 survey will provide nationally representative data on prevalence and enrollment of dual credit and exam-based courses in public high schools, while the PEQIS 18 will provide nationally representative data on the prevalence of college course-taking by high school students both within and outside of dual enrollment programs offered by postsecondary institutions. This is the second iteration of both surveys, previously conducted in school year 2002-03. This request is for clearance of the FRSS 104 and PEQIS 18 questionnaires and full scale data collection.

Copies of the information collection submission for OMB review may be accessed from the RegInfo.gov Web site at http://www.reginfo.gov/public/do/PRAMain or from the Department's Web site at http://edicsweb.ed.gov, by selecting the “Browse Pending Collections” link and by clicking on link number 4671. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2011-18517 Filed 7-21-11; 8:45 am]

BILLING CODE 4000-01-P